Proclamation 9321 of September 11, 2015

National Grandparents Day, 2015

By the President of the United States of America

A Proclamation

Across America, grandparents are loving pillars of comfort and support. After a lifetime of giving back to their families and communities, grandmothers and grandfathers continue to offer compassion and wisdom to their loved ones and inspire us to be our best selves. On National Grandparents Day, we honor the sacrifices they make and continue to show our affection and appreciation for them.

We owe so much of who we are and what we have to our grandparents. With grit and dedication, they helped define a new age and open doors of opportunity for us all. From overcoming the depths of economic collapse to fighting to defend our liberty on battlefields around the world, their determination to ensure we could live better lives than they did helped secure our peace and prosperity. They created the world's largest economy and strongest middle class. They built skyscrapers, made innovative advances, and charted new frontiers. They broke down barriers and instilled fundamental values and ideals. And the extraordinary example they set in striving to forge a better future for their families and our Nation reflects the idea that we are all part of something larger than ourselves.

Today, grandparents continue serving as quiet heroes in every corner of our country. From reading bedtime stories to their grandchildren to volunteering in their communities to acting as primary caregivers, they work hard each and every day while showing love and kindness to their families and those around them. Let us continue to show them the same, and let us forever honor their tremendous efforts to nurture, guide, and drive us in all we do.

NOW, THEREFORE, I, BARACK OBAMA, President of the United States of America, by virtue of the authority vested in me by the Constitution and the laws of the United States, do hereby proclaim September 13, 2015, as National Grandparents Day. I call upon all Americans to take the time to honor their own grandparents and those in their community.

IN WITNESS WHEREOF, I have hereunto set my hand this eleventh day of September, in the year of our Lord two thousand fifteen, and of the Independence of the United States of America the two hundred and fortieth.

[FR Doc. 2015-23496

Filed 9-16-15; 8:45 am]

Billing code 3295-F5